DEPARTMENT OF TRANSPORTATION

National Highway Traffic Safety Administration

[NHTSA Docket No. NHTSA-2011-0038]

National Emergency Medical Services Advisory Council (NEMSAC); Notice of Federal Advisory Committee Meeting

AGENCY: National Highway Traffic Safety Administration (NHTSA), Department of Transportation (DOT).

ACTION: Meeting Notice—National Emergency Medical Services Advisory Council.

SUMMARY: NHTSA announces a meeting of NEMSAC to be held in the Metropolitan Washington, DC area. This notice announces the date, time and location of the meeting, which will be open to the public. The purpose of NEMSAC is to provide a nationally recognized council of emergency medical services representatives and consumers to provide advice and recommendations regarding Emergency Medical Services (EMS) to the U.S. DOT's NHTSA.

DATES: The meeting will be held on April 14, 2011, from 1 p.m. to 5 p.m., and on April 15, 2011, from 8 a.m. to 12 Noon. A public comment period will take place on April 14, 2011, between 3:15 p.m. and 4:15 p.m.

Comment Date: Written comments or requests to make oral presentations should be received by April 11, 2011.

ADDRESSES: The meeting will be held at the Crowne Plaza Hotel National Airport, 1480 Crystal Drive, Arlington, VA 22202. Persons wishing to make an oral presentation or who are unable to attend or speak at the meeting may submit written comments. Written comments and requests to make oral presentations at the meeting should reach Drew Dawson at the address listed below and should be received by April 11, 2011.

All submissions received may be submitted by either one of the following methods: (1) You may submit comments by e-mail: drew.dawson@dot.gov or noah.smith@dot.gov or (2) you may submit comments by fax: (202) 366-7149.

FOR FURTHER INFORMATION CONTACT: Drew Dawson, Director, Office of Emergency Medical Services, NHTSA, 1200 New Jersey Avenue, SE., NTI-140, Washington, DC 20590, telephone number (202) 366-9966; e-mail Drew.Dawson@dot.gov.

SUPPLEMENTARY INFORMATION: Notice of this meeting is given under the Federal Advisory Committee Act, Public Law 92-463, as amended (5 U.S.C. App. 1 et seq.) The NEMSAC will be holding its tenth meeting on Thursday and Friday, April 14 and 15, 2011, at the Crowne Plaza Hotel National Airport, 1480 Crystal Drive, Arlington, VA 22202.

Agenda of Council Meeting, April 14-15, 2011

The tentative agenda includes the following:

Thursday, April 14, 2011

(1) Opening Remarks.

(2) Introduction of Members and all in attendance.

(3) Review and Approval of Minutes of last Meeting.

(4) Update from NHTSA Office of EMS.

(5) Discussion of Role of the Federal Government in EMS.

(6) Public Comment.

(7) Discussion of New and Emerging Issues.

Friday, April 15, 2011

(1) Introductions.

(2) Committee Presentations.

(3) 2011 Meeting Dates.

(4) Federal Partner Update—Health Resources and Services Administration (HRSA).

(5) Culture of Safety Presentation and Discussion of NEMSAC Role.

(6) Unfinished Business/Continued Discussion from Previous Day.

(7) Next Steps and Adjourn.

A public comment period will take place on April 14, 2011, between 3:15 p.m. and 4:15 p.m.

Public Attendance: The meeting is open to the public. Persons with disabilities who require special assistance should advise Drew Dawson of their anticipated special needs as early as possible. Members of the public who wish to make comments on Thursday, April 14 between 3:15 p.m. and 4:15 p.m. are requested to register in advance. In order to allow as many people as possible to speak, speakers are requested to limit their remarks to 3 minutes. For those wishing to submit written comments, please follow the procedure noted above.

This meeting will be open to the public. Individuals wishing to register are encouraged to provide their name, affiliation, phone number, and e-mail address to Drew Dawson by e-mail at drew.dawson@dot.gov or by telephone at (202) 366-9966 no later than April 11, 2011. There will be limited seating, so please register early.

Minutes of the NEMSAC Meeting will be available to the public online through http://www.ems.gov.

Issued on: March 15, 2011.
Drew E. Dawson,
Director, Office of Emergency Medical Services.

[FR Doc. 2011-6463 Filed 3-17-11; 8:45 am]

BILLING CODE 4910-59-P